FEDERAL COMMUNICATIONS COMMISSION

Notice of Public Information Collection(s) Being Reviewed by the Federal Communications Commission for Extension Under Delegated Authority, Comments Requested

December 20, 2007.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments February 26, 2008. If you anticipate that you will be submitting comments, but find it difficult to do so within the period of time allowed by this notice, you should advise the contact listed below as soon as possible.

ADDRESSES: Direct all PRA comments to Nicholas A. Fraser, Office of Management and Budget (OMB), (202) 395-5887, or via fax at 202-395-5167, or via the Internet at Nicholas_A._Fraser@omb.eop.gov and to Judith-B.Herman@fcc.gov, Federal Communications Commission (FCC). To submit your comments by email send them to: PRA@fcc.gov. If you would like to obtain or view a copy of this information collection after the 60 day comment period, you may do so by visiting the OMB ROCIS Web site at: http://www.reginfo.gov/public/PRAMain.

FOR FURTHER INFORMATION CONTACT: For additional information about the information collection(s) send an e-mail to PRA@fcc.gov or contact Judith B. Herman at 202-418-0214.

SUPPLEMENTARY INFORMATION: OMB Control No.: 3060-0713.

Title: Alternative Broadcast Inspection Program (ABIP) Compliance Notification.

Form No.: N/A.

Type of Review: Extension of a currently approved collection.

Respondents: Business or other for-profit, and not-for-profit institutions.

Number of Respondents: 53 respondents; 2,650 responses.

Estimated Time Per Response: .084 hours (5 minutes).

Frequency of Response: On occasion reporting requirement and third party disclosure requirement.

Obligation to Respond: Voluntary.

Total Annual Burden: 223 hours.

Annual Cost Burden: N/A.

Privacy Act Impact Assessment: N/A.

Nature and Extent of Confidentiality: There is no need for confidentiality.

Needs and Uses: This collection will be submitted as an extension (no change in reporting or third party disclosure requirements) after this 60 day comment period to Office of Management and Budget (OMB) in order to obtain the full three year clearance. The total annual burden hours have been adjusted slightly due to a change in the estimated time per response (from .083 to .084 hours).

The Alternative Broadcast Inspection Program (ABIP) is an agreement between the FCC's Enforcement Bureau and an entity, usually a state broadcast association, in which the entity arranges for the inspection of the broadcast station to determine compliance with FCC regulations. The inspections are conducted on a voluntary basis and the entities notify the local FCC District Office or Resident Agent office, in writing via letter of those stations that pass the ABIP inspection and have been granted a Certificate of Compliance. The FCC's Enforcement Bureau (EB) standardized the existing ABIP in 2003 to establish a specific, uniform arrangement for the inspection of broadcast stations.

This information will be used by FCC to determine which broadcast stations are in compliance with FCC rules and will not be subject to routine inspections conducted by the FCC's District Offices. Without this information, the FCC would not be able to determine which stations should be exempt from random inspections.

Federal Communications Commission.
Marlene H. Dortch,
Secretary.

[FR Doc. E7-25239 Filed 12-27-07; 8:45 am]

BILLING CODE 6712-01-P